Title 3—

The President

Notice of September 29, 2003

Report to the Congress on the Memorandum of Understanding Between the Secretaries of State and Homeland Security Concerning Implementation of Section 428 of the Homeland Security Act of 2002

I have today submitted a report to the Congress setting forth a Memorandum of Understanding between the Secretary of State and the Secretary of Homeland Security governing the implementation of section 428 of the Homeland Security Act of 2002 (Public Law 107-296). The Memorandum of Understanding will allow the Departments of State and Homeland Security to work cooperatively to create and maintain an effective, efficient visa process that secures America's borders from external threats and ensures that our borders remain open to legitimate travel to the United States.

B

THE WHITE HOUSE,

September 29, 2003.

[FR Doc. 03-25023

Filed 9-29-03; 1:28 pm]

Billing code 3195-01-P